DEPARTMENT OF COMMERCE

Minority Business Development Agency

Agency Information Collection Activities; Submission to the Office of Management and Budget (OMB) for Review and Approval; Comment Request; MBDA National Minority Enterprise Awards Program Requirements

AGENCY: Minority Business Development Agency (MBDA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before October 28, 2024.

ADDRESSES: Interested persons are invited to submit written comments by mail to Wanda D. Blackwell, MBDA PRA Coordinator, 1401 Constitution Avenue NW, or by email to PRAcomments@doc.gov. Please reference OMB Control Number 0640-0025 in the subject line of your comments. Do not submit Confidential Business Information or otherwise sensitive or protected information.

FOR FURTHER INFORMATION CONTACT: Requests for additional information or specific questions related to collection activities should be directed to Antavia Grimsley, Management Analyst, MBDA, Room 5063, 1401 Constitution Avenue NW, Washington, DC 20230; telephone (202) 482-7458, or AGrimsley1@mbda.gov.

SUPPLEMENTARY INFORMATION:

I. Abstract

The Minority Business Development Agency (MBDA) is the only federal agency created exclusively to foster the growth and global competitiveness of minority-owned businesses in the United States. MBDA provides management and technical assistance to large, medium, and small minority business enterprises through a network of business centers throughout the United States.

II. Method of Collection

Methods of collection include online, email, and mail.

III. Data

Agency: Minority Business Development Agency.

Title: National Minority Business Awards.

OMB Control Number: 0640-0025.

Form Number(s): None.

Type of Request: Revision of information collection.

Number of Respondents: 250.

Average Hours per Response: 1 hour.

Burden Hours: 250.

IV. Request for Comments

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-19251 Filed 8-26-24; 8:45 am]

BILLING CODE 3510-21-P